ENVIRONMENTAL PROTECTION AGENCY

[ER--FRL-6695-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070332, ERP NO. D-BLM-L65541-OR, Western Oregon Bureau of Land Management Districts of Salem, Eugene, Roseburg, Coos Bay, and Medford Districts, and the Klamath Falls Resource Area of the Lakeview District, Revision of the Resource Management Plans, Implementation, OR.

Summary: EPA expressed environmental objections because of potential long-term impacts to water quality and further exceedances of water quality standards in impaired water bodies under Alternatives 2 or 3. In addition, EPA suggests modifications to reduce significant impacts to drinking water and aquatic species, and believes that direct, indirect and cumulative impacts would affect waters on both BLM and non-BLM lands. Rating EO2.

EIS No. 20070362, ERP No. D-FRC-L03013-00, Bradwood Landing Project, Liquified Natural Gas Import Terminal and Natural Gas Pipeline Facilities, Construction and Operation, U.S. Army COE Section 10 and 404 Permits, Clatsop County, OR and Cowlitz County, WA.

Summary: EPA expressed environmental concerns about potential environmental impacts, including impacts to wetlands and air quality. EPA also commented on the alternatives analysis and recommended that additional information about interrelated projects be provided. Rating EC2.

EIS No. 20070420, ERP No. D-SFW-K99038-CA, Agua Caliente Tribal Habitat Conservation Plan (THCP), Application for an Incidental Take Permit for 24 Covered Species, Coachella Valley, Riverside County, CA.

Summary: EPA expressed environmental concerns because the most environmentally protective alternative was formulated with unmitigatable impacts to Tribal sovereignty and was therefore rejected. EPA recommends that the Service and the Tribe create an alternative that promotes a greater conservation goal while honoring Tribal sovereignty. EPA also recommends smart growth conservation measures be included for areas to be developed. Rating EC2.

EIS No. 20070447, ERP No. D-FHW-K40266-CA, Marin-Sonoma Narrows (MSN) HOV Widening Project, Propose to Relieve Recurrent Congestion along U.S. 101 south of the Route 37 Interchange in the City of Novato (Marin County) and ends north of the Corona Road Overcrossing in the City of Petaluma (Sonoma County), Marin and Sonoma Counties, CA.

Summary: EPA expressed concern about wetland impacts, and requested that CalTrans choose an option that will minimize wetland impacts. Rating EC1.

EIS No. 20070455, ERP No. D-SFW-K99039-CA, Coyote Spring Investment Multispecies Conservation Plan, Issuing a 40-year Incidental Take Permit for Five Species, Clark and Lincoln Counties, CA.

Summary: EPA expressed environmental objections because of potentially significant impacts to waters of the U.S. and insufficient alternatives analysis. EPA also expressed concerns about insufficient analysis for groundwater cumulative impacts, traffic-related air quality impacts, biological resources, and population growth. Rating EO2.

EIS No. 20070480, ERP No. D-AFS-J65499-UT, Pockets Resource Management Project, Proposes to Salvage Dead and Dying Spruce/Fir, Regenerate Aspen, and Manage Travel, Escalate Ranger District, Dixie National Forest, Garfield County, UT.

Summary: EPA expressed environmental concerns about impacts to water quality from activities associated with roads and water crossings for vegetation treatments, and requested the final EIS further discuss road management decisions, and road inspection, evaluation and enforcement activities. Rating EC2.

EIS No. 20070496, ERP No. D-FRC-G03036-00, Fayetteville/Greenville Expansion Project, Construction and Operation of the Natural Gas Pipeline Facilities in Arkansas and Mississippi.

Summary: EPA expressed environmental concerns and requested that the Final EIS provide additional information concerning environmental justice, wetland impacts and mitigation, and air quality impacts. Rating EC2.

EIS No. 20070503, ERP No. D-AFS-L65544-AK, Navy Timber Sale Project, To Address the Potential Effects of Timber Harvesting on Etolin Island, Wrangell Ranger District, Tongass National Forest, AK.

Summary: EPA expressed environmental concerns about the potential for water quality impacts, particularly in the Anita Creek, Quiet Creek, and Kindergarten Lake watersheds, as well as destruction of relatively high amounts of Productive Old Growth (POG) habitat. Rating EC2.

EIS No. 20070481, ERP No. DS-COE-E67005-NC, PCS Phosphate Mine Continuation, New Information on Additional Alternative “L” and “M”, Proposes to Expand its Existing Open Pit Phosphate Mining Operation into a 3,412 Acre Tract, Pamlico River and South Creek, near Aurora, Beaufort County, NC.

Summary: EPA continues to express environmental objections to the applicant's preferred alternative due to the significant wetland resource impacts. Rating EO2.

Final EISs

EIS No. 20070449, ERP No. F-BLM-L67046-ID, Smoky Canyon Mine Panels F & G, Proposed Mine Expansion, Caribou County, ID.

Summary: EPA continues to express environmental objections because of the potential for adverse effects to groundwater and surface water in the project area from release of Se from the proposed expansion.

EIS No. 20070456, ERP No. F-DOE-D09800-PA, Gilberton Coal-to-Clean Fuels and Power Project, Construction and Operation a New Demonstration Plant, Preferred Alternative Selected, Schuylkill County, PA.

Summary: EPA expressed environmental concerns because the proposed project would cause an increase in CO2 emissions over conventional coal-fired power plants.

EIS No. 20070472, ERP No. F-DOE-D09801-WV, Western Greenbrier Co-Production Demonstration Project, Construction and Demonstration of a 98 megawatt (MWe) Net Power Plant and Ash Byproduct Manufacturing Facility, Rainelle, WV.

Summary: EPA's previous issues have been resolved; therefore, EPA does not object to the proposed action.

EIS No. 20070499, ERP No. F-FRC-L05238-00, Klamath Hydroelectric Project, Continued Operations for Hydropower License FERC No. 2082-27, Klamath River, Klamath County, OR and Siskiyou County, CA.

Summary: EPA recommended that additional monitoring and adaptive management measures be incorporated into the Record of Decision. EPA also recommended that additional analyses be performed prior to initiation of Clean Water Act Section 401 certification process.

EIS No. 20070500, ERP No. F-COE-K35044-CA, Berth 136-147 [TraPac] Container Terminal Project, Upgrade Existing Wharf Facilities, Install a Buffer Area between the Terminal and Community, U.S. Army COE Section 10 and 404 Permit, West Basin Portion of the Port of Los Angeles, CA.

Summary: EPA continues to have environmental concerns about air quality and wetland impacts, and recommended air quality mitigation measures and the selection of the no-fill alternative.

EIS No. 20070511, ERP No. F-BLM-L65524-AK, Bay Resource Management Plan, Implementation, Located within the Bristol Bay and Goodnews Bay Areas, AK.

Summary: The final EIS addressed EPA's concerns about cumulative impacts and developing a monitoring plan. However, EPA continues to have concerns about impacts to resources after lease expiration, and lack of information specific to tribal consultation in the planning area, in accordance with Executive Order 13075.

EIS No. 20070513, ERP No. F-FHW-G40173-TX, Grand Parkway/TX-99 Segment E Improvement Project, IH-10 to U.S. 290, Funding, Right-of-Way Grant and U.S. Army COE Section 404 Permit Issuance, Harris County, TX.

Summary: No formal comment letter was sent to the preparing agency.

EIS No. 20070535, ERP No. F-AFS-K65295-CA, Horse Heli Project, Harvest Merchantable Timber, Thin Stands, Treat Fuels, and Conduct Associated Activities, Klamath National Forest, Oak Knoll Ranger District, Siskiyou County, CA.

Summary: No formal comment letter was sent to the preparing agency.

EIS No. 20070548, ERP No. F-NPS-J65463-CO, Rocky Mountain National Park, Elk and Vegetation Management Plan, Implementation, Grand and Larimer Counties, CO.

Summary: No formal comment letter was sent to the preparing agency.

EIS No. 20070554, ERP No. F-FRC-J03019-CO, High Plains Expansion Project, (Docket No. CP07-207-000) Natural Gas Pipeline Facility, Construction and Operation, U.S. Army COE 404, Weld, Adams, and Morgan Counties, CO.

Summary: No formal comment letter was sent to the preparing agency.

EIS No. 20080003, ERP No. F-AFS-L65540-WA, Old Curlew Ranger Station Facilities Disposal Project, Proposal to Sell 3-Acre Parcel Including Buildings, Republic Ranger District, Colville National Forest, South Side of Curlew, Ferry County, WA.

Summary: No formal comment letter was sent to the preparing agency.

EIS No. 20070487, ERP No. FA-COE-E39051-FL, Lake Okeechobee Regulation Schedule Study, New Updated Information, Evaluation of Three New Alternatives on Operational Changes to the Current Water Control Plan, Lake Okeechobee and the Everglades Agricultural Area, Lake Okeechobee, Glades, Okeechobee Hendry, Palm Beach and Martin Counties, FL.

Summary: EPA continues to have environmental concerns about impacts on the lower river and estuaries from Lake Okeechobee flow releases.

Dated: January 22, 2008.
Robert W. Hargrove,
Director, NEPA, Compliance Division, Office of Federal Activities.

[FR Doc. E8-1310 Filed 1-24-08; 8:45 am]

BILLING CODE 6560-50-P